FEDERAL COMMUNICATIONS COMMISSION

[Report No. 2390]

Petitions for Reconsideration and Clarification of Action in Rulemaking Proceedings

February 28, 2000.

Petitions for Reconsideration and Clarification have been filed in the Commission's rulemaking Proceedings listed in this Public Notice and published pursuant to 47 CFR Section 1.429(e). The full text of these documents are available for viewing and copying in Room CY-A257, 445 12th Street, S.W., Washington, D.C. or may be purchased from the Commission's copy contractor, ITS, Inc. (202) 857-3800. Oppositions to these petitions must be filed by March 22, 2000. See Section 1.4(b)(1) of the Commission's rules (47 CFR 1.4(b)(1)). Replies to an opposition must be filed within 10 days after the time for filing oppositions has expired.

Subject: Deployment of Wireline Services Advanced Telecommunications Capability (CC Docket No. 98-147) and Implementation of the Local Competition Provision of the Telecommunications Act of 1996 (CC Docket No. 96-98).

Number of Petitions Filed: 4.

Subject: Deployment of Wireline Services Offering Advanced Telecommunications Capability (CC Docket No. 98-147).

Number of Petitions Filed: 1.

Subject: Implementation of the Local Competition Provisions in the Telecommunications Act of 1996 (CC Docket No. 96-98).

Number of Petitions Filed: 16.

Federal Communications Commission.
Magalie Roman Salas,
Secretary.

[FR Doc. 00-5407 Filed 3-6-00; 8:45 am]

BILLING CODE 6712-01-M